DEPARTMENT OF TRANSPORTATION

Federal Aviation Administration

14 CFR Part 71

[Docket No. FAA-2003-14931; Airspace Docket No. 03-ACE-34]

Modification of Class D Airspace; and Modification of Class E Airspace; Kansas City Downtown Airport, MO

AGENCY: Federal Aviation Administration (FAA), DOT.

ACTION: Direct final rule; request for comments; correction.

SUMMARY: This action corrects a direct final rule; request for comments that was published in the Federal Register on Monday, May 5, 2003, (68 FR 23577) [FR Doc. 03-11030]. It corrects an error in the identified paragraph of the legal description of Class E airspace to be amended at Kansas City Downtown Airport, MO.

DATES: This direct final rule is effective on 0901 UTC, September 4, 2003. Comments for inclusion in the Rules Docket must be received on or before June 10, 2003.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 03-11030, published on Monday, May 5, 2003, (68 FR 23577), modified Class D and Class E airspace areas at Kansas City Downtown Airport, MO. The paragraph of Federal Aviation Administration Order 7400.9K pertaining to Class E airspace was misidentified.

Accordingly, pursuant to the authority delegated to me, the Class E airspace at Kansas City Downtown Airport, MO, as published in the Federal Register on May 5, 2003, (68 FR 23577) [FR Doc. 03-11030], is corrected as follows:

§ 71.1 [Corrected]

On page 23578, Column 3, third paragraph from the bottom, change “Paragraph 6002 Class E Airspace Designated as Surface Areas” to read “Paragraph 6004 Class E Airspace Areas Designated as an Extension to a Class D or Class E Surface Area.”

Issued in Kansas City, MO, on May 8, 2003.
David W. Hope,
Acting Manager, Air Traffic Division, Central Region.

[FR Doc. 03-12377 Filed 5-16-03; 8:45 am]

BILLING CODE 4910-13-M